DEPARTMENT OF LABOR

[OMB No. 1205-0371]

Comment Request for Information Collection for the Work Opportunity Tax Credit (WOTC) Program: Extension With Non-Substantive Revisions

AGENCY: Employment and Training Administration, Department of Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the collection of data for the WOTC program. OMB approval for the information collection forms expires November 30, 2011.

A copy of the proposed information collection request (ICR) can be obtained by contacting the office listed below in the addressee section of this notice.

DATES: Written comments must be submitted to the office listed in the addressee's section below on or before November 8, 2011.

ADDRESSES: Submit written comments to Kimberly Vitelli, Room C-4510, Employment and Training Administration, 200 Constitution Avenue, NW., Washington, DC 20210. Telephone No: 202-693-3045 (this is not a toll-free number). Fax: 202-693-3015. E-mail: vitelli.kimberly@dol.gov.

SUPPLEMENTARY INFORMATION:

I. Background

Data on the WOTC program is collected by the state workforce agencies (SWAs) using ETA Form 9058—Report 1, “Certification Workload and Characteristics of Certified Individuals, Work Opportunity Tax Credit” and provided to the Office of Workforce Investment, Washington, DC, through ETA's regional offices. (1) ETA Form 9058—Report 1 is a quarterly management report divided into two parts. Part I collects “Certification Workload” data and part II. collects “Characteristics of Certified Individuals.” The SWAs submit this report using the Internet-based Tax Credit Reporting System of the Enterprise Business Services System (EBSS). The data obtained from this report and from the other four administrative and processing forms (ETA Forms 9061-9063 and 9065) are used for WOTC national office program performance management and outcome reporting. (2) The “Individual Characteristics Form—Work Opportunity Tax Credit” (ICF), ETA Form 9061 is a form required to be used, without modification, by all employers or their representatives. The purpose of the ICF is to expedite certification processing by enabling the individual for whom a certification is requested to be identified with a specific target group and to match the ICF with IRS form 8850. (3) The “Conditional Certification—Work Opportunity Tax Credit,” ETA Form 9062 is a required form that must be used, without modification, by all SWAs, participating agencies and programs to which the SWAs may delegate responsibility for Conditional Certification authority. The Conditional Certification form establishes that the named individual has been tentatively determined eligible as a member of the WOTC targeted group indicated, and therefore hiring this person may lead to an employer Certification under the WOTC program. (4) The “Employer Certification—Work Opportunity Tax Credit,” ETA Form 9063 is an optional form. The form provides the employer with a record of the results of the SWA's eligibility determination on the employer's certification request. In accordance with Public Law 104-188, this form can only be issued by a State Employment Security Agency (now SWA) created under the Wagner-Peyser Act of 1933, as amended, or a Designated Local Agency (DLA). SWAs that opt to design and use a state-specific employer certification form must ensure the state-specific form contains all of the information that appears on the optional ETA form. This form can only be issued by the SWA or DLA. (5) The “Agency Declaration of Verification Results—Work Opportunity Tax Credit,” ETA Form 9065 is an optional ETA form for internal SWA use in recording the results of verification activities conducted by the SWA. If the SWA elects to use an alternative form to record verification results, the alternative form must contain ALL of the information that appears in the optional form.

The American Recovery and Reinvestment Act of 2009 (ARRA) (Pub. L. 111-5), created the following two target groups: (1) Unemployed Veterans and (2) Disconnected Youth. The legislative authority for these two groups expired on December 31, 2010. Current revisions to the reporting and administrative/processing forms include removal of the two expired ARRA groups and related instructions.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension Request, Without Substantive Revisions, of a Currently Approved Collection.

Title: Work Opportunity Tax Credit Program.

OMB Number: 1205-0371.

Affected Public: State Workforce Agencies; the business sector and the target group members.

Form(s): ETA Form 9058; ETA Forms 9061-9063; and 9065.

Annual Frequency: ETA Form 9058, quarterly; ETA Forms 9061-9063 and 9065, on occasion.

Estimated Time per Respondent:

Requirement | Total respondents | Frequency | Annual response | Average response time in hours | Annual burden hours
Form 9058—Report 1 | 52 | Quarterly | 208 | 1.00 | 208
Employer/Job-seeker Complete Form 9061 | 990,000 | On occasion | 990,000 | .33 | 326,700
Form 9061 processed by SWAs | 52 | On occasion | 990,000 | .33 | 326,700
Form 9062 | 52 | On occasion | 40 | .33 | 13
Form 9063 | 52 | On occasion | 440,000 | .33 | 145,200
Form 9065 | 52 | Quarterly | 208 | 1.00 | 208
Record Keeping | 52 | Annually | 52 | 931 | 48,412
States' Plans | 52 | Annually—Per Year | 52 | 8.00 | 416
States' Modified Plans | 52 | Annually—Per Year | 52 | 1.00 | 52
Total | 990,416 |  | 2,420,612 |  | 847,909

Total Burden Hours: 847,909.

Total Burden Cost (capital/startup): 0.

Total Burden Cost (operating/maintaining): 0.

Total Annual Burden Cost for Respondents: 0.

Comments submitted in response to this comment request will be summarized and/or included in the request for Office of Management and Budget approval of the information collection request; they will also become a matter of public record.

Signed at Washington, DC, the 31st day of August 2011.
Jane Oates,
Assistant Secretary, Employment and Training Administration.

[FR Doc. 2011-23115 Filed 9-8-11; 8:45 am]

BILLING CODE 4510-FN-P